DEPARTMENT OF THE INTERIOR

National Park Service

[NPS-WASO-NAGPRA-NPS0035948; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center (RMSC) has completed an inventory of human remains and associated funerary objects and has determined that there is a cultural affiliation between the human remains and associated funerary objects and Indian Tribes or Native Hawaiian organizations in this notice. The human remains and associated funerary objects were removed from Cattaraugus, Chautauqua, Erie, Genesee, Livingston, Monroe, Niagara, Ontario, Orleans, Schuyler, Seneca, Steuben, Wayne, and Yates Counties, NY.

DATES: Repatriation of the human remains and associated funerary objects in this notice may occur on or after July 3, 2023.

ADDRESSES: Kathryn Murano Santos, Rochester Museum & Science Center, 657 East Avenue, Rochester, NY 14607, telephone (585) 697-1929, email kmurano@rmsc.org.

SUPPLEMENTARY INFORMATION: This notice is published as part of the National Park Service's administrative responsibilities under NAGPRA. The determinations in this notice are the sole responsibility of the Rochester Museum & Science Center. The National Park Service is not responsible for the determinations in this notice. Additional information on the determinations in this notice, including the results of consultation, can be found in the inventory or related records held by the Rochester Museum & Science Center.

Description

Human remains representing, at minimum, one individual were removed near Gowanda in Cattaraugus County, NY, and they were acquired by A.C. Parker in 1953. No known individual was identified. No associated funerary objects are present.

Human remains representing, at minimum, two individuals were removed from the Ripley Site (Wfd 001) in Chautauqua County, NY. The human remains of one of these indivduals were collected by George Love in 1956, and they were gifted to the RMSC in 1959. The human remains of the second individual were taken by an unknown individual at an unknown date. No known individuals were identified. No associated funerary objects are present.

Human remains representing, at minimum, 100 individuals were removed from the Westfield Site (Wfd 004) in Chautauqua County, NY, and they were donated to the RMSC by Richard P. Wright in 1977. No known individuals were identified. The five associated funerary objects are one piece of leather; one lot of potsherds; one lot of soil; one lot of stones; and one walnut.

Human remains representing, at minimum, four individuals were removed from the Goodyear (Mullen) Site (Dep 001) in Erie County, NY. These human remains were collected by the Buffalo Museum of Science and donated to the RMSC between 1948 and 1949. No known individuals were identified. No associated funerary objects are present.

Human remains representing, at minimum, one individual were removed from the Green Lake Site (Buf 001) in Erie County, NY. These human remains were removed by an unknown individual at an unknown date. No known individual was identified. No associated funerary objects are present.

Human remains representing, at minimum, 75 individuals were removed from the Hiller Road Ossuary (Dep 002; Dep 002-2) in Erie County, NY. These human remains were removed in 1957 during a salvage expedition conducted by the RMSC's predecessor (the Rochester Museum of Arts and Sciences). No known individuals were identified. The three associated funerary objects are one pottery sherd; one lot of flakes, flint, sherds, coal, stone, and charcoal; and one lot of flakes, flint, sherds, and limestone.

Human remains representing, at minimum, 13 individuals were removed from the Kleis Site (Edn 001; Edn 001-2) in Erie County, NY. In 1959, these human remains were collected by Marian White of the Buffalo Museum of Science and donated to the RMSC. No known individuals were identified. No associated funerary objects are present.

Human remains representing, at minimum, 15 individuals were removed from the Nursery Site (Dep 004) in Erie County, NY. These human remains were located by children and collected by Gordon Schmahl on an unknown date, and they were donated to the RMSC by M.E. White in 1963. No known individuals were identified. No associated funerary objects are present.

Human remains representing, at minimum, four individuals were removed from the Van Son Farm Site in Erie County, NY. These human remains were collected by Frederick Houghton in 1909, and they were donated to the RMSC by the Buffalo Museum of Science in 1942. No known individuals were identified. No associated funerary objects are present.

Human remains representing, at minimum, one individual were removed from Clinton Street in Buffalo in Erie County, NY. These human remains were located in 1901, and they were acquired by the RMSC, through Alvin H. Dewey, between 1928 and 1929. No known individual was identified. The one currently missing associated funerary object is a brass kettle.

Human remains representing, at minimum, two individuals were removed from the Buzzie Farm Site in Genesee County, NY. These human remains were collected by J.H. Bailey on an unknown date. No known individuals were identified. Of the 26 associated funerary objects listed, 25 are present and accounted for in the RMSC collections, and one object is currently missing. The 25 present associated funerary objects are one celt-like stone adze; three bone awls; two bone (pin-like) awls; one lot of bone (pin-like) awls; one lot of flint chips and flakes; one coral cup; one lot of faunal remains; two lots of bone fish hook pins; one flint; one bone harpoon; one flint knife blade; one stone perforated disk; one projectile point; two antler projectile points; one notched triangular bone point; 2 lots of cut bird bone tubes; one worked bone resembling a tooth; one worked mammal femur; and one lot of worked turtle bones. The one currently missing associated funerary object is a (restored) turtle shell rattle.

Human remains representing, at minimum, one individual were removed from the Elba Hotel in Genesee County, NY. In August of 1938, these human remains were located and given to the State Police, and they were later transferred to the RMSC. No known individual was identified. No associated funerary objects are present.

Human remains representing, at minimum, one individual was removed from the Leslie Plue Farm Site in Genesee County, NY. These human remains were excavated in 1937, during an RMSC expedition. No known individual was identified. The three associated funerary objects are one scarred stone; one lot of scraper flakes; and one lot of potsherds.

Human remains representing, at minimum, one individual were removed from the LeRoy Interchange Gravel Pit (Gustin Road Burial Pit) in Genesee County, NY. In 1954, these human remains were acquired by the State Police Barracks and donated to the RMSC. No known individual was identified. No associated funerary objects are present.

Human remains representing, at minimum, one individual were removed from an unknown geographic location in Genesee County, NY. These human remains were acquired by the New York State Police on July 1, 1977, and they were later transferred to the RMSC. No known individual was identified. No associated funerary objects are present.

Human remains representing, at minimum, 19 individuals were removed from the Cole Gravel Pit Site (Hne 017) in Livingston County, NY. These human remains were both excavated and surface collected by the RMSC between 1967 and 1969. No known individuals were identified. Of the 19 associated funerary objects listed, 18 are present and accounted for in the RMSC collections, and one object are currently missing. The 18 present associated funerary objects are one lot containing beads, charcoal, faunal remains, and shells; one lot containing chert, faunal remains, and shells; three lots of faunal remains; one lot of chert flakes; one lot of fragmentary faunal remains; one lot of miscellaneous materials; one lot containing shells and faunal remains; and one lot containing snail shells, stones, and a faunal fragment; three flint knives; one flint projectile point fragment; two flint projectile points; and two flint spearheads. The one currently missing associated funerary object is a partial dog skeleton.

Human remains representing, at minimum, three individuals were removed from the Cole Gravel Pit Site (Hne 017) in Livingston County, NY. The human remains of one of these individuals were collected by “Wm.” Carter and gifted to Morgan Chapter in the autumn of 1967. The human remains of a second individual were collected and donated to the RMSC by George Hamell on August 14, 1968. The remains of a third individual were acquired by the RMSC from an unknown individual on July 10, 1967. No known individuals were identified. No associated funerary objects are present.

Human remains representing, at minimum, one individual were removed from the Dansville Flats Site (Wld 010) in Livingston County, NY. These human remains were collected by W.A. Ritchie during an RMSC expedition in 1945. No known individual was identified. No associated funerary objects are present.

Human remains representing, at minimum, one individual were removed from the Davis Site (Hne 065) in Livingston County, NY. These human remains were collected by Clayton Mau in 1961, and they were donated to the RMSC by Edward A. Mau on August 29, 1966. No known individual was identified. No associated funerary objects are present.

Human remains representing, at minimum, one individual were removed from the Dutch Hollow Site (Hne 001) in Livingston County, NY. These human remains were recovered during a field expedition led by William A. Ritchie of the RMSC in 1934. No known individual was identified. The one associated funerary object is a lot of beads.

Human remains representing, at minimum, two individuals were removed from the Fall Brook Ossuary Site (Cda 18) in Livingston County, NY. These human remains were collected by William A. Ritchie during an RMSC expedition in October of 1936. No known individuals were identified. No associated funerary objects are present.

Human remains representing, at minimum, 23 individuals were removed from the Frog Mound Site (Cda 012) in the town of Geneseo in Livingston County, NY. The human remains of two of these individuals were excavated by Charles Wray in 1956 and donated to the RMSC. The remains of two additional individuals were removed by an unknown individual on an unknown date. The human remains of 19 additional individuals along with 12 associated funerary objects were excavated during several RMSC expeditions during 1956 and 1957. No known individuals were identified. The 12 associated funerary objects are two anvil stones; one flint nodule; one lot containing calcined faunal bone and flint flakes; one lot containing Onondaga flint pieces, red jasper, and nodular flint(?); one lot of stone pieces from a burial platform; one lot of soil; three lots containing soil and bone fragments; and two lots of soil fill.

Human remains representing, at minimum, one individual were removed from the Geneseo Mound/Big Tree Farm Site (Cda 007) in Livingston County, NY. These human remains were removed during an RMSC field expedition led by William A. Ritchie in 1936. No known individual was identified. The one associated funerary object is a lot of brass rings.

Human remains representing, at minimum, one individual were removed from the Hoppough Site (Hne 037) in the Town of Conesus in Livingston County, NY. These human remains were collected by an unknown individual and donated to the RMSC in 1957. No known individual was identified. No associated funerary objects are present.

Human remains representing, at minimum, one individual were removed from the Lower Fall Brook Site (Cda 004) in the town of Geneseo in Livingston County, NY. These human remains were collected by A. Hoffman and donated to the RMSC in 1958. No known individual was identified. The one associated funerary object is a porcelain cup with a handle. It is currently missing.

Human remains representing, at minimum, five individuals were removed from the Patridge (Patry) Site (Cda 8-4) in Livingston County, NY. The human remains of one of these individuals were collected by A. Hoffman on an unknown date. The human remains of a second individual along with one associated funerary object were excavated on May 10, 1958 and donated to the RMSC by Charles Barton. The human remains of a third individual were collected and donated to the RMSC by William L. Carter on May 10, 1958. The human remains of a fourth individual were probably collected by A.K. Guthe on May 12, 1958. The human remins of a fifth individual along with one associated funerary object were collected by Don Hudson on April 5, 1959. No known individuals were identified. The two associated funerary objects are one body sherd and one lot of charcoal pieces. They are currently missing.

Human remains representing, at minimum, four individuals were removed from the Piffard Site (Cda 060) in York Township in Livingston County, NY. The human remains of three of these individuals along with one associated funerary object were collected by Robert Hill and donated to the RMSC in 1946. The human remains of a fourth individual were removed by an unknown individual on an unknown date. No known individuals were identified. The one associated funerary object is a lot containing soil and bone fragments.

Human remains representing, at minimum, three individuals were removed from the Reed House Site (Cda 027) in Livingston County, NY. These human remains were collected during an RMSC expedition in 1970. No known individuals were identified. The four associated funerary objects are one stone axe; one shell bead; one flint flake; and one lot of fragmentary faunal remains.

Human remains representing, at minimum, two individuals were removed from the Reid Farm Site (Cda 015), located in the Town of Caledonia in Livingston County, NY. These human remains were acquired by Charles Wray in 1961. No known individuals were identified. No associated funerary objects are present.

Human remains representing, at minimum, one individual were removed from Site 30 LVTN2 north of Chandler Road in Livingston County, NY. These human remains were collected by George R. Hamell on December 24,1969. No known individual was identified. No associated funerary objects are present.

Human remains representing, at minimum, three individuals were removed from Squawkie Hill (Nda 001) in the township of Leicester in Livingston County, NY. The human remains of one of these individuals along with 11 associated funerary objects were collected by William A. Ritchie through an RMSC expedition in June of 1936. The human remains of a second individual were removed during a RMSC expedition at an unknown date. The human remains of a third individual were donated to the RMSC by an unknown individual at an unknown date. No known individuals were identified. The 11 associated funerary objects are one lot of bones; two lots of burial matrix; one clam shell fragment; two flakes; one lot of body potsherds; two lots of worked stone core fragments; one lot of lithic flakes; and one lot of shell clam fragments.

Human remains representing, at minimum, two individuals were removed from the Webb Site (Can 30) in Livingston County, NY. These human remains were collected by W.A. Ritchie on September 29, 1933. No known individuals were identified. The one associated funerary object is one lot of arrowpoints.

Human remains representing, at minimum, two individuals were removed from the York Gravel Pit, located in the town of Caledonia in Livingston County, NY. These human remains were collected by W.A. Ritchie during an RMSC expedition in 1946. No known individuals were identified. No associated funerary objects are present.

Human remains representing, at minimum, eight individuals were removed from Cuylerville in Livingston County, NY. These human remains were collected by Robert Hill and donated to the RMSC in 1946. No known individuals were identified. No associated funerary objects are present.

Human remains representing, at minimum, one individual were removed from the Dibble property in Livingston County, NY. These human remains presumably were acquired by Alvin Dewey from George Salmon on May 3, 1919. No known individual was identified. No associated funerary objects are present.

Human remains representing, at minimum, one individual were removed from the Ohagi area in Livingston County, NY. These human remains were collected by George R. Hamell at an unknown date. No known individual was identified. No associated funerary objects are present.

Human remains representing, at minimum, one individual were removed from a site near Piffard in Livingston County, NY. These human remains were gifted to the RMSC by Robert R. Hill on October 16, 1946. No known individual was identified. No associated funerary objects are present.

Human remains representing, at minimum, one individual were removed from an unknown location in Livingston County, NY. These human remains were donated to the RMSC by G. Hamell in 1969. No known individual was identified. No associated funerary objects are present.

Human remains representing, at minimum, two individuals were removed from the A and R Gravel Pit Site (Bgn 028), located in the town of Wheatland, in Monroe County, NY. These human remains were collected by Pat Vaccarelli and donated to the RMSC on August 27, 1965. No known individuals were identified. No associated funerary objects are present.

Human remains representing, at minimum, one individual were removed from the Brook-Lea Country Club Site, located in the town of Coldwater, in Monroe County, NY. These human remains were collected by John Bailey in 1936. No known individual was identified. No associated funerary objects are present.

Human remains representing, at minimum, 10 individuals were removed from the Bushman Site (Roc 030), located in the town of Henrietta, in Monroe County, NY. These human remains were collected during a bulldozing operation in 1960, and they were acquired by the RMSC, through the Monroe County Sheriff, in 1960. No known individuals were identified. No associated funerary objects are present.

Human remains representing, at minimum, 10 individuals were removed from the Campbell Gravel Pit Site (Roc 020) in Monroe County, NY. These human remains were collected by Floyd Urkfitz and donated to the RMSC in 1945. No known individuals were identified. No associated funerary objects are present.

Human remains representing, at minimum, one individual were removed from the Central Trust Company Site in Monroe County, NY. These human remains were encountered by construction workers while excavating the basement for the Central Trust Company addition, and they were acquired by an RMSC expedition on October 1, 1953. No known individual was identified. The two associated funerary objects are one piece of carbonized wood and one lot containing wood, nails, iron, and soil.

Human remains representing, at minimum, one individual were removed from Dann Site (Hne 003) in Monroe County, NY. These human remains were transferred to the RMSC by H.L. Schoff at an unknown date. No known individual was identified. No associated funerary objects are present.

Human remains representing, at minimum, one individual were removed from the DeWitt Site (Roc 029), located in the town of Webster, in Monroe County, NY. These human remains were collected by Donald Karnes, Henry Wengender, Neil Hasenauer, and Gary Oechie in 1958. No known individuals were identified. No associated funerary objects are present.

Human remains representing, at minimum, one individual were removed from Ellison Park in Monroe County, NY. These human remains were encountered by road workers on the west side of Irondequoit Creek, and they were acquired by W.A. Ritchie during a field expedition in the fall of 1935. No known individual was identified. No associated funerary objects are present.

Human remains representing, at minimum, one individual were removed from the Farley Farm (Stull) Site (Hne 021) in Monroe County, NY. These human remains were collected by William A. Ritchie during an RMSC (formerly Rochester Museum of Arts and Sciences) excavation in the fall of 1935. No known individual was identified. No associated funerary objects are present.

Human remains representing, at minimum, one individual were removed from the Garbutt Gravel Pit (Bgn 006), located in the Town of Wheatland, in Monroe County, NY. These human remains were collected by John Bailey and given to the RMSC in the 1930s. No known individual was identified. The one associated funerary object is an antler tine.

Human remains representing, at minimum, one individual were removed from the Glen Edith, in the Town of Webster, in Monroe County, NY. These human remains were found around 1898, and they were donated to the RMSC by F.F. Jones on May 20, 1938. No known individual was identified. No associated funerary objects are present.

Human remains representing, at minimum, one individual were removed from the Heck Site (Bgn 034), located in the Town of Wheatland, in Monroe County, NY. These human remains were removed as a part of an RMSC expedition in 1974, after being reported by New York State Police. The burial was removed by machinery during excavation for a leach line, and the human remains were gifted to the RMSC by the property owner. No known individual was identified. No associated funerary objects are present.

Human remains representing, at minimum, one individual were removed from the Jacimo Site (Bgn 026), located near Churchville, in Monroe County, NY. These human remains were collected by W.E. Forney and brought to the RMSC in 1962. No known individual was identified. No associated funerary objects are present.

Human remains representing, at minimum, 13 individuals were removed from the LaBar Site (Roc 007), located on Chili Road, in Monroe County, NY. The human remains of one of these individuals were encountered by William LaBar in 1933. The human remains of an additional 11 individuals were collected by W.A. Ritchie during an RMSC expedition in October of 1933. The human remains of one additional individual were collected by Charles Cowles and donated to the RMSC in 1928. No known individuals were identified. The one associated funerary object is one pottery sherd.

Human remains representing, at minimum, one individual were removed from the Markham Site (Hne 013) in Monroe County, NY. These human remains were discovered in the RMSC's collections in 2022. No known individual was identified. No associated funerary objects are present.

Human remains representing, at minimum, one individual were removed from the Martin Road Gravel Pit in Monroe County, NY. These human remains were collected by the Monroe County Coroner's Office and gifted to the RMSC on April 28, 1950. No known individual was identified. No associated funerary objects are present.

Human remains representing, at minimum, two individuals were removed from the McGurk Site (Roc 045-2) in the Town of Webster in Monroe County, NY. These human remains were collected by an unknown individual through a salvage expedition in 1971, and they were donated to the RMSC at an unknown date. No known individuals were identified. The one associated funerary object is one flint spear blank.

Human remains representing, at minimum, one individual were removed from the Plum Orchard Site (Roc 026), located in the Town of Penfield, in Monroe County, NY. These human remains were encountered during an RMSC salvage expedition in 1962. No known individual was identified. No associated funerary objects are present.

Human remains representing, at minimum, 15 individuals were removed from the Scottsville Grave Pit A (Bgn 010) in Monroe County, NY. The human remains of five of these individuals were collected by W.A. Ritchie, and they were acquired by the RMSC in 1923, 1924, and 1949. The human remains of seven additional individuals were collected by A.C. Parker, and they were acquired by the RMSC in 1925, 1927, and 1929. The human remains of one additional individual were collected by John H. Bailey, and they were donated to the RMSC in 1949. The human remains of two additional individuals were removed by an unknown individual, and they were acquired by the RMSC at an unknown date. No known individuals were identified. The one associated funerary object is one turtle bone.

Human remains representing, at minimum, nine individuals were removed from the SeaBreeze Site (Roc 020) in Monroe County, NY. These human remains were excavated by the RMSC in 1939. No known individuals were identified. The 17 associated funerary objects are one side-notched or stemmed chert projectile point fragment; one side-notched or stemmed chert projectile point with missing base; one stemmed chert projectile point; one corner-notched chert projectile point; one chert cache blade; one lot of copper beads; one lot containing bones, soil, and grass; one shale gorget fragment; one side-notched chert projectile point; one ground-banded slate; one pendant-shaped ground banded slate whetstone(?); one grounded sandstone whetstone(?); one ground slate; one lot of charcoal fragments; one lot of beaver incisor fragments; one soil sample; and one lot containing soil, chert, and bone fragments.

Human remains representing, at minimum, three individuals were removed from the Sparnon Site (Bgn 19-3(?)), located in North Chili, in Monroe County, NY. The human remains of two of these individuals were excavated by W.A. Ritchie during an RMSC expedition in 1941, and they were donated to the RMSC by W.S. Cornwell in 1963. The human remains of one additional individual were excavated by W.A. Ritchie and W.S. Cornwell in 1942. No known individuals were identified. The one associated funerary object is one lot containing mixed refuse.

Human remains representing, at minimum, two individuals were removed from the Wells Farm Site, located in the Town of Wheatland, in Monroe County, NY. These human remains were collected by William A. Ritchie on January 18, 1934. No known individuals were identified. The one associated funerary object is one lot containing soil and bone fragments.

Human remains representing, at minimum, two individuals were removed from the Woodchuck Hill Site (Roc 001), located in the Town of Scottsville, in Monroe County, NY. These human remains were collected by William A. Ritchie during an RMSC expedition in 1935. No known individuals were identified. The three associated funerary objects are one lot of chert projectile point bases; one lot of chert projectile points; and one lot of soil.

Human remains representing, at minimum, one individual were removed from the Zastrocky Site (Bgn 033), located in the Town of Bergen, in Monroe County, NY. These human remains were encountered by farm machinery and reported to State Police by the landowner. Following a referral from the Monroe County Medical Examiner, the RMSC removed the remains during a salvage expedition in 1974. No known individual was identified. No associated funerary objects are present.

Human remains representing, at minimum, one individual were removed from the Genesee River at Upper Falls, in Monroe County, NY. The burial containing these human remains was found on Rochester Gas and Electric property on October 21, 1974. No known individual was identified. No associated funerary objects are present.

Human remains representing, at minimum, one individual were removed from Stottle Road, located in Chili, in Monroe County, NY. These human remains were collected by William R. Ritchie during an RMSC expedition on November 7, 1938. No known individual was identified. No associated funerary objects are present.

Human remains representing, at minimum, one individual were removed from Indian Hill Farm in Monroe County, NY. These human remains were acquired by the RMSC from Harold Meyer around 1932. No known individual was identified. No associated funerary objects are present.

Human remains representing, at minimum, one individual were removed from Irondequoit Bay in Monroe County, NY. These human remains were found by Frank Limpert and donated by A.C. Parker in 1933. No known individual was identified. No associated funerary objects are present.

Human remains representing, at minimum, one individual were removed from Penfield in Monroe County, NY. These human remains are thought to have been collected by Ed Bouane in the 1950s. No known individual was identified. No associated funerary objects are present.

Human remains representing, at minimum, one individual were removed from Riga, near North Main St. Bridge, in Monroe County, NY. These human remains were brought to the RMSC by New York State Police on June 19, 1970. No known individual was identified. No associated funerary objects are present.

Human remains representing, at minimum, one individual were removed from the west bank of the Genesee River near Driving Park Bridge in Rochester, in Monroe County, NY. These human remains were donated to the RMSC by the Monroe County Medical Examiner's Office on November 14, 1973. No known individual was identified. No associated funerary objects are present.

Human remains representing, at minimum, four individuals were removed from the Clapp Estate, located in the town of Rush, in Monroe County, NY. These human remains were collected by Edwin Perry Clapp, and they were donated to the RMSC by Mrs. Margaret Clapp Ganzert, through Mrs. Margaret J. Bartlett. The human remains had been in the custody of the RMSC since April 14, 1969, after being transferred by Dr. John Edlaud, the Monroe County Medical Examiner. No known individuals were identified. No associated funerary objects are present.

Human remains representing, at minimum, one individual were removed from Rochester Children's Shelter, located in the town of Rush, in Monroe County, NY. These human remains were collected by W.A. Ritchie in 1935. No known individual was identified. No associated funerary objects are present.

Human remains representing, at minimum, one individual were removed from the Edson-Skivington Home, located in Scottsville, in Monroe County, NY. These human remains were encountered by David Ennis while excavating a cesspool in 1918, and they were donated to the RMSC by Mrs. D. Ennis in 1975. No known individual was identified. No associated funerary objects are present.

Human remains representing, at minimum, two individuals were removed from Scottsville, located in the town of Wheatland, in Monroe County, NY. These human remains were collected by Bernard Long, and they were donated to the RMSC by G. Hamell in 1967. No known individuals were identified. No associated funerary objects are present.

Human remains representing, at minimum, one individual were removed from the Cambria Ossuary (Twa 008) in Niagara County, NY. These human remains were donated to the RMSC by a private collector named Pechuman. No known individual was identified. No associated funerary objects are present.

Human remains representing, at minimum, three individuals were removed from the Gould Site, located in Cambria, in Niagara County, NY. These human remains were collected and donated to the RMSC by R. McCarthy, L.L. Pechumen, & A. Muller at unknown dates. No known individuals were identified. No associated funerary objects are present.

Human remains representing, at minimum, 20 individuals were removed from the Lewiston Site (Nfs 001) in Niagara County, NY. The human remains of 16 of these individuals were collected by Dr. Ernest Wende in 1904, and they were donated to the RMSC by the Buffalo Museum of Science. The human remains of two additional individuals were collected by Mr. Hooker, and they were donated to the RMSC by John Bailey in 1940. The human remains of one additional individual were collected by Frederick Houghton, and they were donated to the RMSC by the Buffalo Museum of Science in August of 1942. The human remains of one additional individual were collected by Kimball and donated to the RMSC in 1956. No known individuals were identified. No associated funerary objects are present.

Human remains representing, at minimum, 17 individuals were removed from the Orangeport Ossuary (Lkp 001), located in the Town of Orangeport, in Niagara County, NY. The human remains of six of these individuals were collected by Frederick Houghton in 1911, and they were donated to the RMSC by the Buffalo Museum of Science in 1942. The human remains of seven additional individuals were collected and donated to the RMSC by Richard McCarthy in 1946 and 1954. The human remains of two additional individuals were collected by C.F. Hayes & Stanley Vanderlaan during an RMSC expedition in 1965. The human remains of two additional individuals were collected and donated to the RMSC by C. Palmer in 1966. No known individuals were identified. The one associated funerary object is a pottery sherd.

Human remains representing, at minimum, one individual were removed from the Boughton Hill Site (Can 002) in Ontario County, NY. These human remains were discovered in the Rochester Museum and Science Center collection. No known individual was identified. No associated funerary objects are present.

Human remains representing, at minimum, one individual were removed from the Beal Site (Can 010) in Ontario County, NY. These human remains were collected by Frederick Houghton and donated to the RMSC by the Buffalo Museum of Science. No known individual was identified. No associated funerary objects are present.

Human remains representing, at minimum, three individuals were removed from the California Ranch Site (Hne 22-4) in Ontario County, NY. The remains of one of these individuals were collected by Donald Hudson, and they were donated by him to the RMSC on June 2, 1953. The human remains of two additional individuals were collected by Reverend Francis A. Marks of St. Andrews Seminary in Rochester, New York, and they were donated to the RMSC on October 10, 1953. No known individuals were identified. The two associated funerary objects are one pottery sherd and one piece of charcoal. They are currently missing.

Human remains representing, at minimum, seven individuals were removed from the Canandaigua Veterans Hospital Road Site in Ontario County, NY. These human remains were collected by W.A. Ritchie during an RMSC expedition in June of 1936. No known individuals were identified. No associated funerary objects are present.

Human remains representing, at minimum, two individuals were removed from the Clifton Springs Site (Plp 019), located in the town of Manchester, in Ontario County, NY. The human remains of one of these individuals were collected by W.A. Ritchie during an RMSC investigation of the Clifton Springs Sanitarium grounds in 1942. The human remains of a second individual were collected by Spencer Putnam, and they were donated to the RMSC by Al Hoffman in 1950. No known individuals were identified. The two associated funerary objects are one lot of organic matter and one lot of stems.

Human remains representing, at minimum, one individual are reasonably believed to have been removed from the Cornish Site (Hne 009) in Ontario County, NY. These human remains, which had formed part of a reconstructed burial, were donated to the RMSC by L.E. Dodgson in 1960. No known individual was identified. No associated funerary objects are present.

Human remains representing, at minimum, one individual were removed from the Detro Site (Plp 021), located in the town of Gorham, in Ontario County, NY. These human remains were collected by C.F. Hayes on October 29, 1966. No known individual was identified. No associated funerary objects are present.

Human remains representing, at minimum, one individual were removed from the Gorham High School Site (Plp 002) in Ontario County, NY. These human remains were donated to the RMSC by Sidney W. Thomas in 1931. No known individual was identified. No associated funerary objects are present.

Human remains representing, at minimum, five individuals were removed from the Magee Site (Plp 009), located near Canandaigua, in Ontario County, NY. The human remains of three of these individuals were collected and donated to the RMSC by Clarence Bill sometime between 1960 and 1961. The human remains of two additional individuals were collected by Clarence Bill and donated to the RMSC, through W. Cornwell, on March 30, 1963. No known individuals were identified. No associated funerary objects are present.

Human remains representing, at minimum, three individuals were removed from the Martin Farm Site (Can 035), located in the town of Bristol, in Ontario County, NY. These human remains were collected by A.J. Hoffman in 1959. No known individuals were identified. No associated funerary objects are present.

Human remains representing, at minimum, 29 individuals were removed from Morrow Point (Hne 033; Hne 003-4) in Ontario County, NY. The human remains of three of these individuals were possibly removed by the RMSC. The human remains of one additional individual were excavated by the RMSC at an unknown date. The human remains of one additional individual were removed by an unknown individual at an unknown date. The human remains of one additional individual were excavated by Albert J. Hoffman and donated to the RMSC in 1960. The human remains of 12 additional individuals were collected during an RMSC expedition in 1956. The human remains of 10 additional individuals were collected by Harry Schoff and donated to the RMSC in October of 1956. The human remains of one additional individual were excavated by an unknown individual on June 15, 1957. No known individuals were identified. Of the 12 associated funerary objects, four are present and eight are currently missing. The four present associated funerary objects, acquired by the RMSC in 1958, are one dog skeleton; one lot of canine skeletal fragments; the remains of a dog excavated from a burial by Charles Wray and Henry Schoff in the autumn of 1956; and one lot of pottery sherds excavated by A. Hoffman in the summer of 1957. The eight currently missing associated funerary objects are one lot of cord wrapped and decorated potsherds, one lot of incised body potsherds, and one lot of cord wrapped and platted potsherds acquired during an RMSC expedition in 1957; two lots of metal handle nail fragments and two lots containing fragments of fabric and/or vegetal matter excavated by A. Hoffman in 1961; and one lot of copper beads purchased by Charles Wray in 1971.

Human remains representing, at minimum, one individual were removed from the Payne Site (Can 042) in Ontario County, NY. These human remains were acquired by the RMSC from an unknown individual on November 17, 1977. No known individual was identified. No associated funerary objects are present.

Human remains representing, at minimum, one individual were removed from the Phelps Site (Plp 025), located in Phelps Township, in Ontario County, NY. These human remains were excavated by the RMSC in 1980. No known individual was identified. No associated funerary objects are present.

Human remains representing, at minimum, 14 individuals were removed from Putman Site (Plp 008), located in the town of Phelps, in Ontario County, NY. The human remains of one of these individuals were excavated during an RMSC expedition in 1953. The human remains of one additional individual were donated to the RMSC by Mrs. Frank Putman in August of 1953. The human remains of four additional individuals were collected by Mr. Frank Rockerfeller, and they were donated to the RMSC in 1953. The human remains of eight additional individuals were collected by a Mr. Hutchinson, a Capitol Engineers' foreman, and they were donated to the RMSC in 1953. No known individuals were identified. No associated funerary objects are present.

Human remains representing, at minimum, one individual were removed from the Reed Fort Site (HNE 5-4), located in Richmond Township, in Ontario County, NY. These human remains were excavated by Charles F. Hayes for the RMSC in 1966. No known individual was identified. No associated funerary objects are present.

Human remains representing, at minimum, one individual were removed from the Richmond Mills Site (Hne 005) in Ontario County, NY. These human remains were possibly removed by Alvin Dewey in June of 1923. No known individual was identified. No associated funerary objects are present.

Human remains representing, at minimum, one individual were removed from the Steele Site (CAN8-1) in Ontario County, NY. These human remains were donated to the RMSC by William Carter on June 28, 1968. No known individual was identified. The three associated funerary objects are one pot (?); one seed cake; and one potsherd.

Human remains representing, at minimum, one individual were removed from the Troutman Site (Plp 022-1), located in the town of Hopewell, in Ontario County, NY. These human remains were acquired during an RMSC expedition in 1968. No known individual was identified. No associated funerary objects are present.

Human remains representing, at minimum, one individual were removed from the Wallace Hill Site (Plp 003) in Ontario County, NY. These human remains were collected by W.A. Ritchie during an RMSC expedition in the summer of 1934. No known individual was identified. No associated funerary objects are present.

Human remains representing, at minimum, one individual were removed from the E.S. Dombrowski Farm, located 1.5 miles Northwest of Clifton Springs, in Ontario County, NY. These human remains were collected by the Ontario County Sherriff during trenching to lay gas and electric services, and they were donated to the RMSC in 1956. No known individual was identified. No associated funerary objects are present.

Human remains representing, at minimum, one individual are believed to have been removed from the village of Bloomfield in Ontario County, NY. These human remains were acquired by Milton Baxter possibly in 1950. No known individual was identified. No associated funerary objects are present.

Human remains representing, at minimum, one individual were removed from Chapin Street, located in Canandaigua, in Ontario County, NY. These human remains were collected by Don Patterson during a construction project in 1965, and they were donated by Eva Rippenger to the RMSC. No known individual was identified. No associated funerary objects are present.

Human remains representing, at minimum, two individuals were removed from a location east of Parrish House at Reeds Corner, in Ontario County, NY. These human remains were collected by W.A Ritchie during an RMSC expedition in 1934. No known individuals were identified. No associated funerary objects are present.

Human remains representing, at minimum, one individual were found on the eastern shore of Canandaigua Lake in Ontario County, NY. These human remains were donated to the RMSC by an unknown individual at an unknown date. Possibly, they were collected and donated by a Dr. Price around 1930. No known individual was identified. No associated funerary objects are present.

Human remains representing, at minimum, one individual were removed from an unknown location in the Phelps Township, in Ontario County, NY. These human remains were collected by Mrs. Frank Putman, Mr. Frank Rockerfeller, and Mr. Hutchinson during an RMSC expedition in 1953. No known individual was identified. These human remains are currently missing. No associated funerary objects are present.

Human remains representing, at minimum, two individuals were removed from a sand pit at Oaks Corner, in Ontario County, NY. These human remains were excavated by Edward Oaks in 1892 and donated to Dr. Ernest Wende. They were donated to the RMSC by the Buffalo Museum of Science in 1942. No known individuals were identified. No associated funerary objects are present.

Human remains representing, at minimum, two individuals were removed the Bamber Mound Site (Ood 007), located in the Carlton Township, in Orleans County, NY. The human remains of one of these individuals had belonged to the Palmer Collection. The human remains of the second individual were removed by an unknown individual at an unknown date. No known individuals were identified. No associated funerary objects are present.

Human remains representing, at minimum, 16 individuals were removed the Shelby Fort Site (Mda 002), located in the Town of Shelby, in Orleans County, NY. The human remains of 11 of these individuals along with six associated funerary objects were gifted to the RMSC by the Shelby Fort Site in 1984. The human remains of four additional individuals were collected by Stanley Vanderlaan and donated to the RMSC between 1958 and 1961. The human remains of one additional individual were surface collected by C. Palmer, R.F.D., in 1966. No known individuals were identified. The six associated funerary objects are one faunal bone; one lot containing charcoal, chert, and potsherds; one lot containing chert and other stone; one lot containing flint and charcoal; one lot of potsherds; and one lot containing soil and bone fragments.

Human remains representing, at minimum, one individual were removed from an area near Troutburg, in Orleans or Monroe County, NY. These human remains were given to the RMSC by the New York State Police on April 28, 1983. No known individual was identified. No associated funerary objects are present.

Human remains representing, at minimum, 86 individuals were removed from the Lamoka Lake Site (Hpt 001) in Schuyler County, NY. The human remains of one of these individuals were re-excavated from Frontier Field by the RMSC Cultural Resource Survey Program, Research Division in 1995. The human remains of an additional 85 individuals along with 15 associated funerary objects were excavated by W.A. Ritchie and H.C. Follette during RMSC expeditions in 1927 and 1928. No known individuals were identified. The 15 associated funerary objects are one lot containing the remains of dog burials; three lots of shell beads; one lot of organic matter; two lots of a dog skull; four lots of faunal remains; two lots of faunal bone fragments; one lot of faunal bones; and one lot of seeds.

Human remains representing, at minimum, three individuals were removed from the Geneva (Seneca) Yacht Club Site (Gen 001) in Seneca County, NY. These human remains were acquired during an RMSC expedition in 1935. No known individuals were identified. The 13 associated funerary objects are two net sinkers; one lot of projectile points; two lots of faunal remains; one stone chopper; one shell disc bead; one broken engraved gorget; one triangular shell ornament; one lot of pendant fragments; one lot of rimsherds, bodysherds, and a pipe fragment; one bi-pointed bone tool; and one worked antler.

Human remains representing, at minimum, eight individuals were removed from the Kipp Island B Site (Aub 013), located on the Seneca River, in Seneca County, NY. The human remains of seven of these individuals along with three associated funerary objects were gifted to the RMSC by C. Armbruster in 1938. The human remains of the eighth individual were acquired by C. Armbruster from Herb Bigford and donated to the RMSC in 1938. No known individuals were identified. The three associated funerary objects are one bone awl and two body potsherds.

Human remains representing, at minimum, one individual were removed from a location near Painted Post, in Steuben County, NY. These human remains were acquired by the RMSC from A. Hoffman between June 10 and June 12, 1948. No known individual was identified. No associated funerary objects are present.

Human remains representing, at minimum, one individual were removed the Dhondt Site (Wpt 005) in Wayne County, NY. These human remains were surface collected during an RMSC expedition on June 20, 1959. No known individual was identified. No associated funerary objects are present.

Human remains representing, at minimum, one individual were removed from the Elmer Rogers Site (Wpt 001) in Wayne County, NY. These human remains were collected by William A. Ritchie during an RMSC expedition in 1935. No known individual was identified. The five associated funerary objects are one lot containing bark, a deer patella, and part of a brown blanket adhering to human ribs; one lot containing bark and hair fragments; one corn bread (?) fragment; one squash (?) stem; and one metal kettle fragment.

Human remains representing, at minimum, one individual were removed from the Ganz or Gansz Site (Wpt 7-3) in Wayne County, NY. These human remains were discovered in the RMSC collections in 2022. No known individual was identified. No associated funerary objects are present.

Human remains representing, at minimum, seven individuals were removed from the Armstrong Site (Pyn 001) in Yates County, NY. The human remains of six of these individuals were collected during an RMSC salvage operation in 1958. The human remains of the seventh individual were collected by the Benton Highway Department during an RMSC salvage operation on August 18, 1958. No known individuals were identified. No associated funerary objects are present.

Human remains representing, at minimum, one individual were removed from the Blakeslee Site (Pyn 002) in Yates County, NY. These human remains were collected by Charles Blakesley, and they were acquired by the RMSC in 1961. No known individual was identified. No associated funerary objects are present.

Human remains representing, at minimum, 13 individuals were removed from the Greenidge Site (Dresden Power House Site) (Ovd 001) in Yates County, NY. The human remains of two of these individuals were excavated by C.F. Wray on July 6, 1939. The human remains of one additional individual were also excavated by C.F. Wray, and they were donated to the RMSC by the manager of the Dresden Power House on July 6, 1939. The human remains of an additional 10 individuals were excavated by W.A. Ritchie in June of 1939. No known individuals were identified. No associated funerary objects are present.

Human remains representing, at minimum, one individual were removed from the Macomb Gravel Pit Site (Nap 001) in Yates County, NY. These human remains were purchased by the RMSC from an unknown vendor in 1929. No known individual was identified. No associated funerary objects are present.

Human remains representing, at minimum, two individuals were removed from Branchport in Yates County, NY. These human remains were encountered in 1865, and they were subsequently donated to the RMSC by E.E. Evans. No known individuals were identified. No associated funerary objects are present.

Human remains representing, at minimum, one individual were removed from the town of Jerusalem in Yates County, NY. These human remains were collected by William A. Ritchie at an unknown date. No known individual was identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and expert opinion.

Determinations

Pursuant to NAGPRA and its implementing regulations, and after consultation with the appropriate Indian Tribes and Native Hawaiian organizations, the Rochester Museum & Science Center has determined that:

• The human remains described in this notice represent the physical remains of 676 individuals of Native American ancestry.

• The 181 objects described in this notice are reasonably believed to have been placed with or near individual human remains at the time of death or later as part of the death rite or ceremony.

• There is a relationship of shared group identity that can be reasonably traced between the human remains and associated funerary objects described in this notice and the Seneca Nation of Indians; Seneca-Cayuga Nation; and the Tonawanda Band of Seneca.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2023. If competing requests for repatriation are received, the Rochester Museum & Science Center must determine the most appropriate requestor prior to repatriation. Requests for joint repatriation of the human remains and associated funerary objects are considered a single request and not competing requests. The Rochester Museum & Science Center is responsible for sending a copy of this notice to the Indian Tribes identified in this notice.

Authority: Native American Graves Protection and Repatriation Act, 25 U.S.C. 3003, and the implementing regulations, 43 CFR 10.9, 10.10, and 10.14.

Dated: May 24, 2023.
Melanie O'Brien,
Manager, National NAGPRA Program.

[FR Doc. 2023-11695 Filed 5-31-23; 8:45 am]

BILLING CODE 4312-52-P